DEPARTMENT OF LABOR

Employee Benefits Security Administration

Proposed Extension of Information Collection Requests for Public Comment

AGENCY: Employee Benefits Security Administration, Department of Labor.

ACTION: Notice.

SUMMARY: The Department of Labor (the Department), in accordance with the Paperwork Reduction Act of 1995, provides the general public and Federal agencies with an opportunity to comment on proposed and continuing collections of information. This helps the Department assess the impact of its information collection requirements and minimize the public's reporting burden. It also helps the public understand the Department's information collection requirements and provide the requested data in the desired format. The Employee Benefits Security Administration (EBSA) is soliciting comments on the proposed extension of the information collection requests (ICRs) contained in the documents described below. A copy of the ICRs may be obtained by contacting the office listed in the ADDRESSES section of this notice. ICRs also are available at reginfo.gov (http://www.reginfo.gov/public/do/PRAMain).

DATES: Written comments must be submitted to the office shown in the ADDRESSES section on or before December 24, 2018.

ADDRESSES: G. Christopher Cosby, Department of Labor, Employee Benefits Security Administration, 200 Constitution Avenue NW, Room N-5718, Washington, DC 20210, ebsa.opr@dol.gov, (202) 693-8410, FAX (202) 219-4745 (these are not toll-free numbers).

SUPPLEMENTARY INFORMATION: This notice requests public comment on the Department's request for extension of the Office of Management and Budget's (OMB) approval of ICRs contained in the rules and prohibited transaction exemptions described below. The Department is not proposing any changes to the existing ICRs at this time. An agency may not conduct or sponsor, and a person is not required to respond to, an information collection unless it displays a valid OMB control number. A summary of the ICRs and the current burden estimates follows:

Agency: Employee Benefits Security Administration, Department of Labor.

Title: Genetic Information Nondiscrimination Act of 2008 Research Exception Notice.

Type of Review: Extension of a currently approved collection of information.

OMB Number: 1210-0136.

Affected Public: Businesses or other for-profits; Not-for-profit institutions.

Respondents: 3.

Responses: 3.

Estimated Total Burden Hours: 1.

Estimated Total Burden Cost (Operating and Maintenance): $16.

Description: The Genetic Information Nondiscrimination Act of 2008 (GINA), Public Law 110-233, was enacted on May 21, 2008. Title I of GINA amended the Employee Retirement Income Security Act of 1974 (ERISA), the Public Health Service Act (PHS Act), the Internal Revenue Code of 1986 (Code), and the Social Security Act (SSA) to prohibit discrimination in health coverage based on genetic information. Sections 101 through 103 of Title I of GINA prevent employment-based group health plans and health insurance issuers in the group and individual markets from discriminating based on genetic information, and from collecting such information. The interim final regulations, which are codified at 29 CFR 2590.702-1, only interpret Sections 101 through 103 of Title I of GINA.

GINA and the interim final regulations (29 CFR 2590.702-1(c)(5)) provide a research exception to the limitations on requesting or requiring genetic testing that allow a group health plan or group health insurance issuer to request, but not require, a participant or beneficiary to undergo a genetic test if all of the following conditions of the research exception are satisfied:

• The request must be made pursuant to research that complies with 45 CFR part 46 (or equivalent Federal regulations) and any applicable State or local law or regulations for the protection of human subjects in research. To comply with the informed consent requirements of 45 CFR 46.116 (a)(8), a participant must receive a disclosure that participation in the research is voluntary, refusal to participate cannot involve any penalty or loss of benefits to which the participant is otherwise entitled, and the participant may discontinue participation at any time without penalty or loss of benefits to which the participant is entitled (the Participant Disclosure). The interim final regulations provide that when the Participant Disclosure is received by participants seeking their informed consent, no additional disclosures are required for purposes of the GINA research exception.

• The plan or issuer must make the request in writing and must clearly indicate to each participant or beneficiary (or in the case of a minor child, to the legal guardian of such beneficiary) to whom the request is made that compliance with the request is voluntary and noncompliance will have no effect on eligibility for benefits or premium or contribution amounts.

• None of the genetic information collected or acquired as a result of the research may be used for underwriting purposes.

• The plan or issuer must complete a copy of the “Notice of Research Exception under the Genetic Information Nondiscrimination Act” (the Notice) and provide it to the address specified in its instructions. The Notice and instructions are available on the Department of Labor's website (http://www.dol.gov/ebsa).

The Participant Disclosure and the Notice are the ICRs contained in the interim final rules. The Department previously requested review of this information collection and obtained approval OMB under OMB control number 1210-0136. The ICRs are scheduled to expire on February 28, 2019.

Agency: Employee Benefits Security Administration, Department of Labor.

Title: Definition of Plan Assets—Participant Contributions.

Type of Review: Extension of a currently approved collection of information.

OMB Number: 1210-0100.

Affected Public: Businesses or other for-profits.

Respondents: 1.

Responses: 251.

Estimated Total Burden Hours: 8.

Estimated Total Burden Cost (Operating and Maintenance): $1,464.

Description: The regulation concerning plan assets and participant contributions provides guidance for fiduciaries, participants, and beneficiaries of employee benefit plans regarding how participant contributions to pension plans must be handled when they are either paid to the employer by the participant or directly withheld by the employer from the employee's wages for transmission to the pension plan. For those employers who may have difficulty meeting the regulation's deadlines for transmitting participant contribution, the regulation (29 CFR 2510.3-102(d)) provides an opportunity for the employer to obtain an extension of the time limit by providing participants and the Department with a notice that contains specified information. The ICR pertains to this notice requirement. The Department previously requested review of this ICR and obtained approval from OMB under OMB control number 1210-0100. That approval is scheduled to expire on February 28, 2019.

Agency: Employee Benefits Security Administration, Department of Labor.

Title: Disclosures for Participant-Directed Individual Account Plans.

Type of Review: Extension of a currently approved collection of information.

OMB Number: 1210-0090.

Affected Public: Businesses or other for-profits.

Respondents: 518,282.

Responses: 713,900,000.

Estimated Total Burden Hours: 7,300,000.

Estimated Total Burden Cost (Operating and Maintenance): $274,000,000.

Description: Plan administrators are required to provide plan- and investment-related fee and expense information to participants and beneficiaries in all participant directed individual account plans (e.g., 401(k) plans) for plan years beginning on or after January 1, 2011. The Department previously requested review of this information collection and obtained approval from OMB under OMB control number 1210-0090. The ICR is scheduled to expire on February 28, 2019.

Agency: Employee Benefits Security Administration, Department of Labor.

Title: Bank Collective Investment Funds; Prohibited Transaction Class Exemption 1991-38.

Type of Review: Extension of a currently approved collection of information.

OMB Number: 1210-0082.

Affected Public: Businesses or other for-profits; Not-for-profit institutions.

Respondents: 6,000.

Responses: 6,000.

Estimated Total Burden Hours: 1,000.

Estimated Total Burden Cost (Operating and Maintenance): $0.

Description: PTE 91-38 provides an exemption from the prohibited transaction provisions of the Employee Retirement Income Security Act of 1974 (ERISA) for certain transactions between a bank collective investment fund and persons who are parties in interest with respect to an employee benefit plan. Without the exemption, ERISA sections 406 and 407(a) and Internal Revenue Code section 4975(c)(1) may prohibit transactions between the collective investment fund (CIF) and a party in interest to one or more of the employee benefit plans participating in the collective investment fund.

Under PTE 91-38, a collective investment fund generally may engage in transactions with parties in interest to a plan that invests in the fund as long as the plan's total investment in the fund does not exceed a specified percentage of the total assets of the fund. PTE 91-38 also contains more limited or differently defined relief for funds holding more than the specified percentage for multiemployer plans, and for transactions involving employer securities and employer real property. In order to ensure that the rights of participants and beneficiaries are protected, and that bank collective investment funds can demonstrate compliance with the terms of the exemption, the Department requires a bank to maintain records regarding the exempted transactions and make them available for inspection to specified interested persons (including the Department and the Internal Revenue Service) on request for a period of six years.

EBSA previously submitted the information collection provisions of PTE 91-38 to OMB for review in an ICR that was approved under the OMB Control No. 1210-0082. The current approval is scheduled to expire on February 28, 2019.

Agency: Employee Benefits Security Administration, Department of Labor.

Title: Prohibited Transaction Class Exemption 97-41; Collective Investment Funds Conversion Transactions.

Type of Review: Extension of a currently approved collection of information.

OMB Number: 1210-0104.

Affected Public: Businesses or other for-profits; Not-for-profit institutions.

Respondents: 50.

Responses: 105.

Estimated Total Burden Hours: 1,760.

Estimated Total Burden Cost (Operating and Maintenance): $508,282.

Description: Prohibited Transaction Exemption (PTE) 97-41 provides an exemption from the prohibited transaction provisions of the Employment Retirement Income Security Act of 1974 (ERISA) and from certain taxes imposed by the Internal Revenue Code of 1986. The exemption permits employee benefit plans to purchase shares of one or more open-end investment companies (the funds) registered under the Investment Advisers Act of 1940 by transferring in-kind, to the investment company, assets of the plan that are part of a collective investment fund (CIF) maintained by a bank or plan advisor that is both a fiduciary of the plan and an investment advisor to the investment company offering the fund.

The exemption requires that an independent fiduciary receive advance written notice of any covered transaction, as well as specific written information concerning the funds to be purchased. The independent fiduciary must also provide written advance approval of conversion transactions and receive written confirmation of each transaction, as well as additional on-going disclosures as defined in PTE 97-41. These disclosures are the basis for this ICR.

EBSA previously submitted the information collection provisions of PTE 97-41 to OMB for review in connection with promulgation of the prohibited transaction exemption. OMB approved the ICR under OMB Control No. 1210-0104. The ICR approval is currently scheduled to expire on February 28, 2019.

Agency: Employee Benefits Security Administration, Department of Labor.

Title: Foreign Currency Transactions; Prohibited Transaction Class Exemption 1994-20.

Type of Review: Extension of a currently approved collection of information.

OMB Number: 1210-0085.

Affected Public: Businesses or other for-profits; Not-for-profit institutions.

Respondents: 248.

Responses: 1,240.

Estimated Total Burden Hours: 200.

Estimated Total Burden Cost (Operating and Maintenance): $0.

Description: PTE 94-20 permits the purchase and sale of foreign currencies between an employee benefit plan and a bank, broker-dealer, or an affiliate thereof, that is a trustee, custodian, fiduciary, or other party in interest with respect to the plan. The exemption is available provided that the transaction is directed (within the meaning of section IV(e) of the exemption) by a plan fiduciary that is independent of the bank, broker-dealer, or affiliate and all other conditions of the exemption are satisfied. Without this exemption, certain aspects of these transactions might be prohibited by ERISA section 406(a).

To protect the interests of participants and beneficiaries of the employee benefit plan, the exemption requires that the party wishing to take advantage of the exemption (1) develop written policies and procedures applicable to trading in foreign currencies on behalf of an employee benefit plan; (2) provide a written confirmation with respect to each transaction in foreign currency to the independent plan fiduciary, disclosing specified information; and (3) maintain records pertaining to the transaction for a period of six years. This ICR relates to the foregoing disclosure and recordkeeping requirements.

EBSA previously submitted the information collection provisions of PTE 94-20 to OMB for review in connection with promulgation of the prohibited transaction exemption. OMB approved the ICR under OMB Control No. 1210-0085. The ICR approval is currently scheduled to expire on February 28, 2019.

Agency: Employee Benefits Security Administration, Department of Labor.

Title: Affordable Care Act Internal Claims and Appeals and External Review Procedures for Non-Grandfathered Plans.

Type of Review: Extension of a currently approved collection of information.

OMB Number: 1210-0144.

Affected Public: Businesses or other for-profits; Not-for-profit institutions.

Respondents: 1,801,225.

Responses: 278,413.

Estimated Total Burden Hours: 2,271.

Estimated Total Burden Cost (Operating and Maintenance): $1,143,236.

Description: The Patient Protection and Affordable Care Act, Public Law 111-148, (the Affordable Care Act) was enacted by President Obama on March 23, 2010. As part of the Act, Congress added Public Health Service Act (PHS Act) section 2719, which provides rules relating to internal claims and appeals and external review processes. The Department, in conjunction with the Departments of the Treasury and Department of Health and Human Services (collectively, the Departments), issued interim final regulations on July 23, 2010 (75 FR 43330), which set forth rules implementing PHS Act section 2719 for internal claims and appeals and external review processes. With respect to internal claims and appeals processes for group health coverage, PHS Act section 2719 and paragraph (b)(2)(i) of the interim final regulations provide that group health plans and health insurance issuers offering group health insurance coverage must comply with the internal claims and appeals processes set forth in 29 CFR 2560.503-1 (the DOL claims procedure regulation) and update such processes in accordance with standards established by the Secretary of Labor in paragraph (b)(2)(ii) of the regulations.

Also, PHS Act section 2719 and the interim final regulations provide that group health plans and issuers offering group health insurance coverage must comply either with a State external review process or a Federal review process. The regulations provide a basis for determining when plans and issuers must comply with an applicable State external review process and when they must comply with the Federal external review process.

The claims procedure regulation imposes information collection requirements as part of the reasonable procedures that an employee benefit plan must establish regarding the handling of a benefit claim. These requirements include third-party notice and disclosure requirements that the plan must satisfy by providing information to participants and beneficiaries of the plan.

On June 24, 2011, the Department amended the interim final regulations. Two amendments revised the ICR. The first amendment provides that plans no longer are required to include diagnosis and treatment codes on notices of adverse benefit determination and final internal adverse benefit determination. Instead, they must notify claimants of the opportunity to receive the codes on request and plans and issuers must provide the codes upon request.

The second amendment also changes the method plans and issuers must use to determine who is eligible to receive a notice in a culturally and linguistically appropriate manner, and the information that must be provided to such persons. The previous rule was based on the number of employees at a firm. The new rule is based on whether a participant or beneficiary resides in a county where ten percent or more of the population residing in the county is literate only in the same non-English language. The ICR was approved by OMB under OMB Control Number 1210-0144 and is scheduled to expire on March 31, 2019.

Agency: Employee Benefits Security Administration, Department of Labor.

Title: Affordable Care Act Advance Notice of Rescission.

Type of Review: Extension of a currently approved collection of information.

OMB Number: 1210-0141.

Affected Public: Businesses or other for-profits; Not-for-profit institutions.

Respondents: 100.

Responses: 1,533.

Estimated Total Burden Hours: 20.

Estimated Total Burden Cost (Operating and Maintenance): $250.

Description: Section 2712 of the PHS Act, as added by the Affordable Care Act, and the Department's interim final regulation (26 CFR 54.9815-2712, 29 CFR 2590.715-2712, 45 CFR 147.2712) provides rules regarding rescissions of health coverage for group health plans and health insurance issuers offering group or individual health insurance coverage. Under the statute and the interim final regulations, a group health plan, or a health insurance issuer offering group or individual health insurance coverage, generally must not rescind coverage except in the case of fraud or an intentional misrepresentation of a material fact. This standard applies to all rescissions, whether in the group or individual insurance market, or self-insured coverage. The rules also apply regardless of any contestability period of the plan or issuer.

PHS Act section 2712 adds a new advance notice requirement when coverage is rescinded where still permissible. Specifically, the second sentence in section 2712 provides that coverage may not be cancelled unless prior notice is provided, and then only as permitted under PHS Act sections 2702(c) and 2742(b). Under the interim final regulations, even if prior notice is provided, rescission is only permitted in cases of fraud or an intentional misrepresentation of a material fact as permitted under the cited provisions.

The interim final regulations provide that a group health plan, or a health insurance issuer offering group health insurance coverage, must provide at least 30 days advance notice to an individual before coverage may be rescinded. The notice must be provided regardless of whether the rescission is of group or individual coverage; or whether, in the case of group coverage, the coverage is insured or self-insured, or the rescission applies to an entire group or only to an individual within the group. The ICR was approved by OMB under OMB Control Number 1210-0141 and is scheduled to expire on March 31, 2019.

Agency: Employee Benefits Security Administration, Department of Labor.

Title: Affordable Care Act Grandfathered Health Plan Disclosure, Recordkeeping Requirement, and Change in Carrier Disclosure.

Type of Review: Extension of a currently approved collection of information.

OMB Number: 1210-0140.

Affected Public: Businesses or other for-profits; Not-for-profit institutions.

Respondents: 983,923.

Responses: 18,143,918.

Estimated Total Burden Hours: 2,220.

Estimated Total Burden Cost (Operating and Maintenance): $366,791.

Description: Section 1251 of the Patient Protection and Affordable Care Act provides that certain plans and health insurance coverage in existence as of March 23, 2010, known as grandfathered health plans, are not required to comply with certain statutory provisions in the Act. To maintain its status as a grandfathered health plan, the interim final regulations (29 CFR 2590.715-1251(a)(3)) require the plan to maintain records documenting the terms of the plan in effect on March 23, 2010, and any other documents that are necessary to verify, explain or clarify status as a grandfathered health plan. The plan must make such records available for examination upon request by participants, beneficiaries, individual policy subscribers, or a State or Federal agency official.

The interim final regulations (29 CFR 2590.715-1251(a)(2)) also require a grandfathered health plan to include a statement in any plan material provided to participants or beneficiaries describing the benefits provided under the plan or health insurance coverage, that the plan or coverage believes it is a grandfathered health plan within the meaning of section 1251 of the Act, that being a grandfathered health plan means that the plan does not include certain consumer protections of the Act, and providing contact information for participants to direct questions regarding which protections apply and which protections do not apply to a grandfathered health plan and what might cause a plan to change from grandfathered health plan status and to file complaints. The ICR contained in this interim final rule was approved by OMB under OMB Control Number 1210-0140, which is currently scheduled to expire on March 31, 2019.

Agency: Employee Benefits Security Administration, Department of Labor.

Title: Patient Protection and Affordable Care Act Patient Protection Notice.

Type of Review: Extension of a currently approved collection of information.

OMB Number: 1210-0142.

Affected Public: Businesses or other for-profits; Not-for-profit institutions.

Respondents: 41,386.

Responses: 693,007.

Estimated Total Burden Hours: 5,173.

Estimated Total Burden Cost (Operating and Maintenance): $5,371.

Description: Section 2719A of the PHS Act, as added by the Affordable Care Act, and the Department's interim final regulation (29 CFR 2590.715-2719A), states that if a group health plan, or a health insurance issuer offering group or individual health insurance coverage, requires or provides for designation by a participant, beneficiary, or enrollee of a participating primary care provider, then the plan or issuer must permit each participant, beneficiary, or enrollee to designate any participating primary care provider who is available to accept the participant, beneficiary, or enrollee. When applicable, it is important that individuals enrolled in a plan or health insurance coverage know of their rights to (1) choose a primary care provider or a pediatrician when a plan or issuer requires participants or subscribers to designate a primary care physician; or (2) obtain obstetrical or gynecological care without prior authorization. Accordingly, paragraph (a)(4) of the interim final regulations requires such plans and issuers to provide a notice to participants (in the individual market, primary subscribers) of these rights when applicable. Model language is provided in the interim final regulations. The notice must be provided whenever the plan or issuer provides a participant with a summary plan description or other similar description of benefits under the plan or health insurance coverage, or in the individual market, provides a primary subscriber with a policy, certificate, or contract of health insurance. The ICR was approved by OMB under OMB Control Number 1210-0142 and is scheduled to expire on March 31, 2019.

Agency: Employee Benefits Security Administration, Department of Labor.

Title: Employee Retirement Income Security Act Summary Annual Report Requirement.

Type of Review: Extension of a currently approved collection of information.

OMB Number: 1210-0040.

Affected Public: Not-for-profit institutions, Businesses or other for-profits.

Respondents: 721,000.

Responses: 168,200,000.

Estimated Total Burden Hours: 2,300,000.

Estimated Total Burden Cost (Operating and Maintenance): $62,500,000.

Description: ERISA Section 104(b)(3) and the regulation published at 29 CFR 2520.104b-10 require, with certain exceptions, that administrators of employee benefit plans furnish annually to each participant and certain beneficiaries a summary annual report (SAR) meeting the requirements of the statute and regulation. The regulation prescribes the content and format of the SAR and the timing of its delivery. The SAR provides current information about the plan and assists those who receive it in understanding the plan's current financial operation and condition. It also explains participants' and beneficiaries' rights to receive further information on these issues.

EBSA previously submitted the ICR provisions in the regulation at 29 CFR 2520.104b-10 to OMB, and OMB approved the ICR under OMB Control No. 1210-0040. The ICR approval is scheduled to expire on April 30, 2019.

Agency: Employee Benefits Security Administration, Department of Labor.

Title: Summary of Benefits and Coverage and Uniform Glossary Required Under the Affordable Care Act.

Type of Review: Extension of a currently approved collection of information.

OMB Number: 1210-0147.

Affected Public: Businesses or other for-profits; Not-for-profit institutions.

Respondents: 4,644,924.

Responses: 71,252,236.

Estimated Total Burden Hours: 431,552.

Estimated Total Burden Cost (Operating and Maintenance): $9,273,266.

Description: Section 2715 of the PHS Act directs the Department of Health and Human Services (HHS), the Department of Labor (DOL), and the Department of the Treasury (collectively, the Departments), in consultation with the National Association of Insurance Commissioners (NAIC) and a working group comprised of stakeholders, to “develop standards for use by a group health plan and a health insurance issuer in compiling and providing to applicants, enrollees, and policyholders and certificate holders a summary of benefits and coverage explanation that accurately describes the benefits and coverage under the applicable plan or coverage.” To implement these disclosure requirements, collection of information requests relate to the provision of the following: Summary of benefits and coverage, which includes coverage examples; a uniform glossary of health coverage and medical terms; and a notice of modifications. The ICR was approved by OMB under OMB Control Number 1210-0147 and is scheduled to expire on April 30, 2019.

Agency: Employee Benefits Security Administration, Department of Labor.

Title: Annual Report for Multiple Employer Welfare Arrangements (Form M-1).

Type of Review: Extension of a currently approved collection of information.

OMB Number: 1210-0116.

Affected Public: Businesses or other for-profits, not-for-profit institutions.

Respondents: 456.

Responses: 456.

Estimated Total Burden Hours: 97.

Estimated Total Burden Cost (Operating and Maintenance): $81,900.

Description: The Health Insurance Portability and Accountability Act of 1996 (HIPAA), codified as Part 7 of Title I of the Employee Retirement Security Act of 1974 (ERISA), was enacted to improve the portability and continuity of health care coverage for participants and beneficiaries of group health plans. In the interest of assuring compliance with Part 7, section ERISA 101(g), added by HIPAA, further permits the Secretary of Labor (the Secretary) to require multiple employer welfare arrangements (MEWAs), as defined in ERISA section 3(40), to report to the Secretary in such form and manner as the Secretary might determine. The Department published a final rule providing for such reporting on an annual basis, together with a form (Form M-1) to be used by MEWAs for the annual report. The reporting requirement enables the Secretary to determine whether the requirements of Part 7 of ERISA are being carried out.

The Patient Protection and Affordable Care Act (Pub. L. 111-148, 124 Stat. 119) and the Health Care and Education Reconciliation Act of 2010 (Pub. L. 111-152, 124 Stat. 1029) (these are collectively known as the “Affordable Care Act”) amended ERISA section 101(g). Under this amendment, MEWAs providing benefits consisting of medical care (within the meaning of ERISA section 733(a)(2) that are not group health plans must now register with the Secretary prior to operating in a State. EBSA previously submitted an ICR for the information collection in Form M-1 to OMB for review under the PRA and received approval under OMB control number 1210-0116. This current approval is scheduled to expire on June 30, 2019.

Agency: Employee Benefits Security Administration, Department of Labor.

Title: Notice of Special Enrollment Rights Under Group Health Plans.

Type of Review: Extension of a currently approved collection of information.

OMB Number: 1210-0101.

Affected Public Businesses or other for-profits, not-for-profit institutions.

Respondents: 2,300,000.

Responses: 8,600,000.

Estimated Total Burden Hours: 1.

Estimated Total Burden Cost (Operating and Maintenance): $75,000.

Description: Subsection (c) of 29 CFR 2590.701-6 requires group health plans to provide a notice describing the plan's special enrollment rules to each employee who is offered an initial opportunity to enroll in the group health plan. The special enrollment rules described in the notice of special enrollment generally provide enrollment rights to employees and their dependents in specified circumstances occurring after the employee or dependent initially declines to enroll in the plan. EBSA previously submitted an ICR concerning the notice of special enrollment to OMB for review under the PRA and received approval under OMB Control No. 1210-0101. The current ICR approval is scheduled to expire on June 30, 2019.

Agency: Employee Benefits Security Administration, Department of Labor.

Title: Prohibited Transaction Class Exemptions for Multiple Employer Plans and Multiple Employer Apprenticeship Plans, PTE 76-1, PTE 77-10, PTE 78-6.

Type of Review: Extension of a currently approved collection of information.

OMB Number: 1210-0058.

Affected Public Businesses or other for-profits, not-for-profit institutions.

Respondents: 3,625.

Responses: 3,625.

Estimated Total Burden Hours: 906.

Estimated Total Burden Cost (Operating and Maintenance): $0.

Description: This ICR covers information collections contained in three related prohibited transaction class exemptions: PTE 76-1, PTE 77-10, and PTE 78-6. All three of these exemptions cover transactions that were recognized by the Department as being well-established, reasonable, and customary transactions in which collectively bargained multiple employer plans (principally, multiemployer plans, but also including other collectively bargained multiple employer plans) frequently engage in order to carry out their purposes.

PTE 76-1 provides relief, under specified conditions, for three types of transactions: (1) Part A of PTE 76-1 permits collectively bargained multiple employer plans to take several types of actions regarding delinquent or uncollectible employer contributions; (2) Part B of PTE 76-1 permits collectively bargained multiple employer plans, under specified conditions, to make construction loans to participating employers; and (3) Part C of PTE 76-1 permits collectively bargained multiple employer plans to share office space and administrative services, and the costs associated with such office space and services, with parties in interest. PTE 77-10 complements Part C of PTE 76-1 by providing relief from the prohibitions of ERISA section 406(b)(2) with respect to collectively bargained multiple employer plans sharing office space and administrative services with parties in interest if specific conditions are met. PTE 78-6 provides an exemption to collectively bargained multiple employer apprenticeship plans for the purchase or leasing of personal property from a contributing employer (or its wholly owned subsidiary) and for the leasing of real property (other than office space within the contemplation of ERISA section 408(b)(2)) from a contributing employer (or its wholly owned subsidiary) or an employee organization any of whose members' work results in contributions being made to the plan.

Each of these PTEs requires, as part of its conditions, either written agreements, recordkeeping, or both. The Department has combined the information collection provisions of the three PTEs into one ICR because it believes that the public benefits from having the opportunity to collectively review these closely related exemptions and their similar information collections. The Department previously submitted an ICR to OMB for approval of the information collections in PTEs 76-1, 77-10, and 78-6 and received OMB approval under OMB Control No. 1210-0058. The current approval is scheduled to expire on June 30, 2019.

Agency: Employee Benefits Security Administration, Department of Labor.

Title: Multiple Employer Welfare Arrangement Administrative Law Judge Administrative Hearing Procedures.

Type of Review: Extension of a currently approved collection of information.

OMB Number: 1210-0148.

Affected Public: Businesses or other for-profits.

Respondents: 10.

Responses: 10.

Estimated Total Burden Hours: 20.

Estimated Total Burden Cost (Operating and Maintenance): $595,700.

Description: Congress enacted section 6605 of the Affordable Care Act, Public Law 111-148, 124 Stat. 119, 780 (2010), which adds section 521 to ERISA, to provide the Secretary with additional enforcement authority to protect plan participants, beneficiaries, employees or employee organizations, or other members of the public against fraudulent, abusive, or financially hazardous Multiple Employer Welfare Arrangements (MEWAs). This section authorizes the Secretary to issue ex parte cease and desist orders when it appears to the Secretary that the alleged conduct of a MEWA is “fraudulent, or creates an immediate danger to the public safety or welfare, or is causing or can be reasonably expected to cause significant, imminent, and irreparable public injury.” A person that is adversely affected by the issuance of a cease and desist order may request an administrative hearing regarding the order. This request for an administrative hearing is an information collection under the Paperwork Reduction Act.

The Department previously submitted this information collection to OMB in an ICR that was approved under OMB Control Number 1210-0148. The current approval is scheduled to expire on June 30, 2019.

II. Focus of Comments

The Department is particularly interested in comments that:

• Evaluate whether the collections of information are necessary for the proper performance of the functions of the agency, including whether the information will have practical utility;

• Evaluate the accuracy of the agency's estimate of the collections of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

Comments submitted in response to this notice will be summarized and/or included in the ICRs for OMB approval of the extension of the information collection; they will also become a matter of public record.

Dated: October 17, 2018.
Joseph S. Piacentini,
Director, Office of Policy and Research, Employee Benefits Security Administration.

[FR Doc. 2018-23079 Filed 10-22-18; 8:45 am]

BILLING CODE 4510-29-P